DEPARTMENT OF ENERGY

Notice of Solicitation for Financial Assistance Number DE-PS03-01SF22221 and Program Announcement LAB NE-2001-1 Under the Nuclear Energy Research Initiative (NERI)

AGENCY: Office of Nuclear Energy, Science and Technology, Oakland Operations Office, Department of Energy (DOE).

SUMMARY: The U. S. Department of Energy, Oakland Operations Office intends to issue a Solicitation and a Program Announcement on or about October 17, 2000, seeking applications/proposals for innovative scientific and engineering research and development in the field of nuclear energy as part of the Nuclear Energy Research Initiative (NERI). NERI is designed to support innovative research that can address the principal technical and scientific obstacles to future use of nuclear power in the U.S. NERI is also intended to reinvigorate the vital nuclear scientific and engineering infrastructure within U.S. universities, industry and DOE national laboratories.

The Solicitation will invite financial assistance applications from universities or other institutions of higher learning, industry, non-profit and R&D organizations and collaborations among organizations, including those in which DOE national laboratories are participating, but not as the lead organization. The Program Announcement will be issued simultaneously for applications in which a DOE national laboratory is the sole or lead performing organization.

The fields of research include: (1) Generation IV Nuclear Energy Systems; (2) Proliferation Resistant Reactors and Fuel Technology; (3) Advanced Nuclear Fuels and; (4) Fundamental Science.

Up to $6 million of Government Fiscal Year 2001 Federal funds are expected to be available for awards under the Solicitation and the complementary Program Announcement. Typical funding of individual awards is expected to be in the range of $200,000 to $400,000 per year. Collaborative research projects involving two or more organizations may receive larger awards, where merited. The period of performance for individual projects is expected to be one to three years.

SUPPLEMENTARY INFORMATION: Funds are not presently available for these financial assistance awards. Any financial assistance awarded as a result of the Solicitation shall be contingent upon the availability of appropriated funds. No legal liability on the part of the Government for the payment of any money shall arise unless and until appropriated funds are made available to the Contracting Officer for these awards. We anticipate the receipt of funding for the Solicitation and Program Announcement under the authority of the Energy and Water Development Appropriations Act of 2001.

The Catalog of Federal Domestic Assistance (CFDA) Number for this program is 81.121.

The Solicitation text and Program Announcement is expected to be posted on the Oakland Operations Web Site: http://www.oak.doe.gov/financial/sol_page.html on or about October 17, 2000.

FOR FURTHER INFORMATION CONTACT: Denise Berry, Contract Specialist; Financial Assistance Center, U.S. Department of Energy, Oakland Operations Office, 1301 Clay Street, 700N, Oakland, California 94612-5208; telephone (510) 637-1873.

Issued in Oakland, California, on October 11, 2000.
Salma El-Safwany,
Program Manager, Livermore Environmental Program Division.

[FR Doc. 00-26731 Filed 10-17-00; 8:45 am]

BILLING CODE 6450-01-P